DEPARTMENT OF HEALTH AND HUMAN SERVICES

Centers for Disease Control and Prevention

Announcement of Meeting

Summary: The Centers for Disease Control and Prevention (CDC) is hosting a workshop on respiratory protection for airborne infectious agents.

Times and Dates: 8 a.m.-5:30 p.m., November 30, 2004. 8 a.m.-5:30 p.m., December 1, 2004.

Place: The Westin Buckhead, 3391 Peachtree Road, NE., Atlanta, Georgia 30326, Telephone (404) 365-0065, Fax (404) 365-8787.

Matters to be Discussed: The CDC is hosting a public meeting to exchange information and seek individual input from the participants regarding the following topics:

• The current state of scientific knowledge regarding transmission of certain infectious agents through the air, focusing on the scientific basis for respiratory protection of workers and patients;

• The current state of scientific knowledge regarding respiratory protection as related to droplet nuclei and certain aerosol-transmitted agents;

• Strategies for improving the quality and effectiveness of respiratory protection; and research needs to fill current knowledge gaps.

Agenda items are subject to changes as priorities dictate.

Supplementary Information: Rooms are reserved at the Westin Buckhead under a CDC room block for the evenings of Monday, November 29, 2004; Tuesday, November 30, 2004; and Wednesday, December 1, 2004; at the government rate of $113 per night. The CDC meeting must be referenced to receive this special rate. Interested parties should make hotel reservations directly with The Westin Buckhead at 1-800-937-8461 or (404) 365-0065 before the cut-off date of November 12, 2004.

Interested parties should confirm their attendance to this meeting by completing the on-line registration form: http://www.cdc.gov/niosh/npptl/resources/pressrel/announcements/113004wkshp/ or save the form and forward it by e-mail (npptlevents@cdc.gov) or fax (304) 225-2003) to the NPPTL Events Management Office.

For Further Information Contact: National Personal Protective Technology Laboratory (NPPTL) Events Management, 3604 Collins Ferry Road, Suite 100, Morgantown, West Virginia 26505-2353, Telephone (304) 599-5941 x138, Fax (304) 225-2003, E-mail npptlevents@cdc.gov.

The Director, Management Analysis and Services Office, has been delegated the authority to sign Federal Register notices pertaining to announcements of meetings and other committee management activities for both CDC and the Agency for Toxic Substances and Disease Registry.

Dated: November 5, 2004.
Alvin Hall,
Director, Management Analysis and Services Office, Centers for Disease Control and Prevention.

[FR Doc. 04-25183 Filed 11-10-04; 8:45 am]

BILLING CODE 4163-19-P